DEPARTMENT OF COMMERCE

National Oceanic and Atmospheric Administration

RIN 0648-XD356

Caribbean Fishery Management Council; Public Hearing

AGENCY: National Marine Fisheries Service (NMFS), National Oceanic and Atmospheric Administration (NOAA), Commerce.

ACTION: Notice of a public hearing.

SUMMARY: The Caribbean Fishery Management Council (Council) will hold a public hearing to obtain comments from fishers, the general public and the local agencies representatives on the proposed actions for closed seasons in each of the Abrir la Sierra, Bajo de Sico and Tourmaline Bank closed areas.

DATES: The hearing will be held on July 18, 2014, from 7 p.m. to 10 p.m.

ADDRESSES: The hearing will be held at the Mayaguez Holiday Inn, 2701 Hostos Avenue, Mayaguez, Puerto Rico.

FOR FURTHER INFORMATION CONTACT: Caribbean Fishery Management Council, 270 Muñoz Rivera Avenue, Suite 401, San Juan, Puerto Rico 00918-1903, telephone: (787) 766-5926.

SUPPLEMENTARY INFORMATION: The Council will hold a public hearing to take comments on the following proposed actions:

Action 1: Modify the Length of the Closed Fishing Season

Alternative 1: No Action: Retain the existing length of the closed season in each of the Abrir La Sierra Bank, Bajo de Sico, and Tourmaline Bank closed areas.

Alternative 2: Modify the Bajo de Sico closed season to be December 1-February 28.

Alternative 3: Modify the closed season to be October 1-March 31 (Preferred).

Sub-Alternative a: Abrir La Sierra Bank (Preferred).

Sub-Alternative b: Tourmaline Bank (Preferred).

Alternative 4: Modify the closed season to be December 1-May 31.

Sub-Alternative a: Abrir La Sierra Bank.

Sub-Alternative b: Bajo de Sico.

Sub-Alternative c: Tourmaline Bank.

Alternative 5: Modify the closed season to be year round.

Sub-Alternative a: Abrir La Sierra Bank.

Sub-Alternative b: Bajo de Sico.

Sub-Alternative c: Tourmaline Bank.

Action 2: Modify Reef Fish Fishing Activities

Alternative 1: No Action: Retain the existing reef fish harvest regulations in each of the Abrir La Sierra Bank, Bajo de Sico, and Tourmaline Bank closed areas.

Alternative 2: Prohibit fishing for Council-managed reef fish in Bajo de Sico during the seasonal closure established in Action 1.

Alternative 3: Prohibit fishing for and possession of Council-managed reef fish during the seasonal closure established in Action 1 (Preferred).

Sub-Alternative a: Abrir La Sierra Bank (Preferred).

Sub-Alternative b: Tourmaline Bank (Preferred).

Action 3: Modify Spiny Lobster Fishing Activities

Alternative 1: No Action: Retain the existing spiny lobster regulations in each of the Abrir La Sierra Bank, Bajo de Sico, and Tourmaline Bank closed areas.

Alternative 2: Prohibit fishing for spiny lobster in Bajo de Sico during the seasonal closure established in Action 1.

Alternative 3: Prohibit fishing for and possession of spiny lobster during the seasonal closure established in Action 1.

Sub-Alternative a: Abrir La Sierra Bank.

Sub-Alternative b: Bajo de Sico.

Sub-Alternative c: Tourmaline Bank.

Alternative 4: Prohibit fishing for spiny lobster year round.

Sub-Alternative a: Abrir La Sierra Bank.

Sub-Alternative b: Bajo de Sico.

Sub-Alternative c: Tourmaline Bank.

Alternative 5: Prohibit fishing for and possession of spiny lobster year round.

Sub-Alternative a: Abrir La Sierra Bank.

Sub-Alternative b: Bajo de Sico.

Sub-Alternative c: Tourmaline Bank.

Alternative 6: Allow fishing for spiny lobster year round (Preferred).

Sub-Alternative a: Abrir La Sierra Bank (Preferred).

Sub-Alternative b: Bajo de Sico (Preferred).

Sub-Alternative c: Tourmaline Bank (Preferred).

Action 4: Prohibit Anchoring

Alternative 1: No Action: Retain the existing anchoring prohibitions in each of the Abrir La Sierra Bank, Bajo de Sico, and Tourmaline Bank closed areas.

Alternative 2: Prohibit anchoring during the seasonal closure established in Action 1.

Sub-Alternative a: Abrir La Sierra Bank.

Sub-Alternative b: Bajo de Sico.

Sub-Alternative c: Tourmaline Bank.

Alternative 3: Prohibit anchoring year round (Preferred).

Sub-Alternative a: Abrir La Sierra Bank (Preferred).

Sub-Alternative b: Tourmaline Bank (Preferred).

Action 5: Modify Highly Migratory Species Fishing Activities

Alternative 1: No Action: Retain the current Highly Migratory Species (HMS) fishing regulations in each of the Abrir La Sierra Bank, Bajo de Sico, and Tourmaline Bank closed areas.

Alternative 2: Upon request of the Council, prohibit bottom longline fishing for HMS year-round in Bajo de Sico (Preferred).

Alternative 3: Upon request of the Council, prohibit fishing for, and possession of, HMS in some or all of the three areas during the seasonal closure established in Action 1.

Sub-Alternative a: Abrir La Sierra Bank.

Sub-Alternative b: Bajo de Sico.

Sub-Alternative c: Tourmaline Bank.

Alternative 4: Upon request of the Council, prohibit fishing for HMS in some or all of the three areas during the seasonal closure established in Action 1, with an exception that would allow only surface trolling, as defined at § 635.21(a)(4)(iv), for all HMS (Preferred).

Sub-Alternative a: Abrir La Sierra Bank (Preferred).

Sub-Alternative b: Bajo de Sico (Preferred).

Sub-Alternative c: Tourmaline Bank (Preferred).

Alternative 5: Upon request of the Council, allow fishing for bigeye, albacore, yellowfin and skipjack (BAYS) tunas with speargun fishing gear in some or all of the three areas during the seasonal closure established in Action 1.

Sub-Alternative a: Abrir La Sierra Bank.

Sub-Alternative b: Bajo de Sico.

Sub-Alternative c: Tourmaline Bank.

Action 6: Modify Spearfishing Activities

Alternative 1: No Action: Retain the existing spearfishing regulations in each of the Abrir La Sierra Bank, Bajo de Sico, and Tourmaline Bank closed areas.

Alternative 2: Prohibit spearfishing for Council-managed reef fish during the seasonal closure established in Action 1.

Sub-Alternative a: Abrir La Sierra Bank.

Sub-Alternative b: Bajo de Sico.

Sub-Alternative c: Tourmaline Bank.

Alternative 3: Prohibit spearfishing for all non-HMS-managed species during the seasonal closure established in Action 1 (Preferred).

Sub-Alternative a: Abrir La Sierra Bank (Preferred).

Sub-Alternative b: Bajo de Sico (Preferred).

Sub-Alternative c: Tourmaline Bank (Preferred).

Alternative 4: Prohibit spearfishing for all non-HMS-managed species year-round.

Sub-Alternative a: Abrir La Sierra Bank.

Sub-Alternative b: Bajo de Sico.

Sub-Alternative c: Tourmaline Bank.

Written comments can be sent to the Council not later than July 31st, 2014, by regular mail to the address below, or via email to graciela_cfmc@yahoo.com.

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico, 00918-1903, telephone (787) 766-5926, at least 5 days prior to the meeting date.

Dated: June 24, 2014.
Tracey L. Thompson,
Acting Deputy Director, Office of Sustainable Fisheries, National Marine Fisheries Service.

[FR Doc. 2014-15057 Filed 6-26-14; 8:45 am]

BILLING CODE 3510-22-P